DEPARTMENT OF ENERGY

Federal Energy Regulatory Commission

[Docket No. ER01-2584-000, et al.]

Northeast Utilities Service Company, et al.; Electric Rate and Corporate Filings

January 15, 2003.

The following filings have been made with the Commission. The filings are listed in ascending order within each docket classification.

1. Northeast Utilities Service Company

[Docket No. ER01-2584-000]

Take notice that on November 25, 2002, Northeast Utilities Service Company (NUSCO) tendered for filing with the Federal Energy Regulatory Commission (Commission) a Notice of Withdrawal of its application for the Connecticut-Long Island cable (CLC) project that was filed with the Commission on July 13, 2001 in the above-referenced proceeding.

Comment Date: February 5, 2003.

2. West Texas Utilities Company

[Docket No. ER03-281-000]

Take notice that on December 16, 2002, West Texas Utilities Company (WTU) tendered for filing with the Federal Energy Regulatory Commission (FERC or Commission):

1. A Notice of Cancellation of First Revised Service Agreement No. 7 under WTU's FERC Electric Tariff, Second Revised Volume No. 9;

2. A Notice of Cancellation of Service Agreement No. 19 under WTU's FERC Electric Tariff, Original Volume No. 1;

3. A Revised Sheet No. 1 to First Revised Service Agreement No. 7 under WRU's FERC Electric Tariff, Second Revised Volume No. 9 with the designation information required by Commission Order No. 614, FERC Stats. & Regs. § 31,096 (2000), indicating that the service agreement is to be canceled effective December 31, 2002; and

4. A Revised Sheet No. 1 to Service Agreement No. 19 under WTU's FERC Electric Tariff, Original Volume No. 1, with the designation information required by Commission Order No. 614, indicating that the service agreement is to be canceled effective December 31, 2002.

Comment Date: January 27, 2003.

3. New York State Electric & Gas Corporation

[Docket Nos. ER03-315-000 and ER03-315-001]

Take notice that on December 23, 2002, as corrected on January 9, 2003, New York State Electric & Gas Corporation (NYSEG) tendered for filing pursuant to Section 205 of the Federal Power Act and Section 35.13 of the Federal Energy Regulatory Commission's (FERC or Commission) Regulations, a supplement to Rate Schedule 227 filed with FERC corresponding to an Agreement with the Municipal Board of the Village of Bath (the Village).

This rate filing is made pursuant to Section 2(a) through ‸ of Article IV of the May 1, 2001 Facilities Agreement between NYSEG and the Village, filed with FERC. The annual charges for routine operation and maintenance and general expenses, as well as revenue and property taxes are revised based on data taken from NYSEG's Annual Report to the FERC (FERC Form 1) for the twelve month period ending December 31, 2001. The revised facilities charge is levied on the cost of the tap facility constructed and owned by NYSEG to connect the Village's 34. kV transmission line to NYSEG's kV transmission system. NYSEG requests an effective date of January 1, 2003.

NYSEG states that copies of the filing were served upon the Municipal Board of the Village of Bath and Public Service Commission of the State of New York.

Comment Date: January 30, 2003.

4. Las Vegas Cogeneration II, L.L.C.

[Docket No. ER03-222-001]

Take notice that on January 10, 2003, Las Vegas Cogeneration II, L.L.C., filed substitute pages for the proposed market-based rate wholesale power sales rate schedule (Rate Schedule) that LV Cogen filed with the Federal Energy Regulatory Commission (Commission) in the referenced docket on November 25, 2002.

Comment Date: January 31, 2003.

5. TXU Pedricktown Cogeneration Company LP

[Docket No. ER03-256-001]

Take notice that on January 10, 2003, TXU Pedricktown Cogeneration Company LP (TXU Pedricktown), tendered for filing as an amendment to its Notice of Succession, filed in Docket No. ER03-256-000 on December 9, 2002, a revised market-based rate tariff (Tariff) reflecting its name change from Pedricktown Cogeneration Limited Partnership, and a revision to paragraph seven (7) “Affiliate Sales Prohibited” of its Tariff to comply with the Commission's Order in Aquila, Inc., 101 FERC § 61,331 (2002). TXU Pedricktown requests waiver of the 60-day prior notice requirement to allow its revised Tariff to become effective as of December 3, 2002.

Comment Date: January 31, 2003.

6. Ameren Services Company

[Docket No. ER03-336-001]

Take notice that on January 14, 2003, Ameren Services Company (ASC) tendered for filing a Firm Point-to-Point Transmission Service Agreement between ASC and Ameren Energy. ASC asserts that the purpose of the Agreement is to replace the unexecuted Agreement in Docket No. ER03-336-000 with the executed Agreement.

Comment Date: February 4, 2003.

7. PacifiCorp

[Docket No.ER03-399-000]

Take notice that on January 10, 2003, PacifiCorp tendered for filing in accordance with 18 CFR 35 of the Commission's Rules and Regulations a Mutual Netting/Settlement Agreement with Clatskanie Public Utility District.

PacifiCorp states that copies of this filing were supplied to the Clatskanie Public Utility District and the Public Utility Commission of Oregon.

Comment Date: January 31, 2003.

8. American Electric Power Service Corporation

[Docket No. ER03-400-000]

Take notice that on January 10, 2003, the American Electric Power Service Corporation (AEPSC) tendered for filing an executed Interconnection and Operation Agreement and Memorandum of Understanding between Ohio Power Company and DPC Northeast Power, LLC. The agreement is pursuant to the AEP Companies' Open Access Transmission Service Tariff (OATT) that has been designated as the Operating Companies of the American Electric Power System FERC Electric Tariff Third Revised Volume No. 6, effective July 31, 2001.

AEP requests an effective date of March 11, 2003. AEP also states that a copy of the filing was served upon DPC Northeast Power, LLC and the Public Utilities Commission of Ohio.

Comment Date: January 31, 2003.

9. Midwest Independent Transmission System Operator, Inc.

[Docket No. ER03-401-000]

Take notice that on January 10, 2003, the Midwest Independent Transmission System Operator, Inc. (Midwest ISO) tendered for filing proposed revisions to Attachment M of the Midwest ISO Open Access Transmission Tariff (OATT), FERC Electric Tariff, Second Revised Volume No. 1, which reflect proposed language changes for clarification purposes. The Midwest ISO has requested an effective date of February 1, 2003.

The Midwest ISO has electronically served a copy of this filing upon all Midwest ISO Members, Member representatives of Transmission Owners and Non-Transmission Owners, the Midwest ISO Advisory Committee participants, Policy Subcommittee participants, as well as all state commissions within the region. In addition, the filing has been electronically posted on the Midwest ISO's website at www.midwestiso.org under the heading “Filings to FERC” for other interested parties in this matter. The Midwest ISO will provide hard copies to any interested parties upon request.

Comment Date: January 31, 2003.

10. Midwest Independent Transmission System Operator, Inc.

[Docket No. ER03-402-000]

Take notice that on January 10, 2003, the Midwest Independent Transmission System Operator, Inc. (Midwest ISO) tendered for filing proposed revisions of Schedule 7, Schedule 8 and Schedule 9 of the Midwest ISO Open Access Transmission Tariff, FERC Electric Tariff, Second Revised Volume No. 1. Applicant requests an effective date upon the closing of the Divestiture Transaction between DTE Energy and ITC Holdings.

The Midwest ISO has requested waiver of the requirements set forth in 18 CFR 385.2010. The Midwest ISO has electronically served a copy of this filing, with attachments, upon all Midwest ISO Members, Member representatives of Transmission Owners and Non-Transmission Owners, the Midwest ISO Advisory Committee participants, Policy Subcommittee participants, as well as all state commissions within the region. In addition, the filing has been electronically posted on the Midwest ISO's website at http://www.midwestiso.org under the heading “Filings to FERC” for other interested parties in this matter. Comment Date: January 31, 2003.

11. Indiana Michigan Power Company

[Docket No. ER03-403-000]

Take notice that on January 13, 2003, Indiana Michigan Power Company (IMPCo) submitted for filing an unexecuted Interconnection and Operation Agreement between IMPCo and South Shore Power, L.L.C. (SSPCo). The agreement is pursuant to the AEP Companies' Open Access Transmission Service Tariff (OATT) that has been designated as the Operating Companies of the American Electric Power System FERC Electric Tariff Revised Volume No. 6, effective July 31, 2001.

IMPCo requests an effective date of March 14, 2003. IMPCo also states that copies of this filing have been served upon SSPCo and the Indiana Utility Regulatory Commission and Michigan Public Service Commission.

Comment Date: January 31, 2003.

12. PJM Interconnection, L.L.C.

[Docket No. ER03-404-000]

Take notice that on January 10, 2003, PJM Interconnection, L.L.C. (PJM), submitted for filing two new attachments to the PJM Open Access Transmission Tariff (PJM Tariff) setting forth the standard terms and conditions for independent transmission companies to operate in the PJM region.

PJM states that copies of this filing were served upon all PJM members and each state electric utility regulatory commission in the PJM region. PJM proposes an effective date of March 12, 2003 for the new PJM Tariff attachments.

Comment Date: January 31, 2003.

13. PJM Interconnection, L.L.C.

[Docket No. ER03-405-000]

Take notice that on January 10, 2003, PJM Interconnection, L.L.C. (PJM) tendered for filing proposed changes to the PJM Open Access Transmission Tariff. PJM states that the proposed changes create procedures and standardized terms and conditions for interconnection with the PJM transmission system of new and expanded merchant transmission facilities, as well as for the construction of transmission upgrades and other facilities necessary to accomplish such interconnections; add and modify related forms of service agreements; and reorganize and make conforming changes to various provisions of the existing Part IV of the PJM Tariff.

PJM further states that copies of this filing have been served on all parties to Docket No. RT01-2-000, as well as on all PJM Members and the state electric regulatory commissions in the PJM region. PJM requests an effective date of January 13, 2003, for the proposed tariff changes.

Comment Date: January 31, 2003.

14. California Independent System Operator Corporation

[Docket No. ER03-407-000]

Take notice that on January 13, 2003, the California Independent System Operator Corporation (ISO) tendered for filing Amendment No. 48 to the ISO Tariff (Amendment No. 48). Amendment No. 48 would modify the ISO Tariff to provide Congestion revenues, Wheeling revenues, and FTR auction revenues to entities other than Participating Transmission Owners, if any such entities fund transmission facility upgrades on the ISO Controlled Grid. The ISO has requested waiver of the Commission's 60-day notice period so that Amendment No. 48 will become effective on January 13, 2003.

The ISO states that this filing has been served on the California Public Utilities Commission, the California Energy Commission, the California Electricity Oversight Board, on all parties with effective Scheduling Coordinator Service Agreements under the ISO Tariff, and the Participating TOs. In addition, the ISO is posting this transmittal letter and all attachments on the ISO Home Page.

Comment Date: February 3, 2003.

15. Puget Sound Energy, Inc.

[Docket No. ER03-408-000]

Take notice that on January 13, 2003, Puget Sound Energy, Inc. tendered for filing an Interconnection and Parallel Operating Agreement with Puget Sound Hydro, LLC (Puget Sound Hydro). A copy of the filing was served upon Puget Sound Hydro and The Washington Utilities and Transportation Commissions.

Comment Date: February 3, 2003.

16. Pacific Gas and Electric Company

[Docket No. ER03-409-000]

Take notice that on January 13, 2003, Pacific Gas and Electric Company (PG&E), tendered for filing proposed changes in its Transmission Owner Tariff (TO Tariff) and Cost Support for PG&E specific rates associated with the TO Tariff. PG&E requests that its filing be made effective upon the end of the 60-day prior notice period specified in Section 18 CFR 35.3.

This filing proposes changes to PG&E's transmission access charges, which are calculated in accordance with the rate methodology set forth in PG&E's TO Tariff. PG&E provides cost support for PG&E's proposed transmission access charges.

PG&E states that copies of this filing have been served upon the CPUC and the California Independent System Operator Corporation.

Comment Date: February 3, 2003.

17. ITC Holdings Merger Sub, Inc.; International Transmission Company

[Docket No. ES03-19-000]

Take notice that on January 9, 2003, ITC Holdings Merger Sub, Inc. and International Transmission Company (ITC Holdings) submitted an application pursuant to section 204 of the Federal Power Act seeking authorization to issue and sell no more than $200 million of long-term debt securities.

ITC Holdings also requests a waiver from the Commission's competitive bidding and negotiated placement requirements at 18 CFR 34.2.

Comment Date: February 5, 2003.

18. John R. Fielder

[Docket No. ID-3259-001]

Take notice that on January 10, 2003, John R. Fielder tendered for filing an application for authorization under Section 305(b) of the Federal Power Act to hold the following positions:

Senior Vice president, Southern California Edison Company.

Director, California Power Exchange.

Comment Date: January 31, 2003.

19. James P. Avery

[Docket No. ID-3847-000]

Take notice that on January 10, 2003, James P. Avery submitted to Federal Energy Regulatory Commission (Commission) an Application for Authorization to Hold Interlocking Positions pursuant to Section 305(b) of the Federal Power Act and Part 45 of the Commission's Regulations.

Comment Date: January 31, 2003.

Standard Paragraph

Any person desiring to intervene or to protest this filing should file with the Federal Energy Regulatory Commission, 888 First Street, NE, Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-1387 Filed 1-21-03; 8:45 am]

BILLING CODE 6717-01-P